SMALL BUSINESS ADMINISTRATION

Notice of Action Subject to Intergovernmental Review Under Executive Order 12372

AGENCY: U.S. Small Business Administration.

ACTION: Notice of action subject to intergovernmental review.

SUMMARY: The Small Business Administration (SBA) is notifying the public that it intends to grant the pending applications of 42 existing Small Business Development Centers (SBDCs) for refunding on January 1, 2006, subject to the availability of funds. Fourteen states do not participate in the EO 12372 process therefore, their addresses are not included. A short description of the SBDC program follows in the supplementary information below.

The SBA is publishing this notice at least 90 days before the expected refunding date. The SBDCs and their mailing addresses are listed below in the address section. A copy of this notice also is being furnished to the respective State single points of contact designated under the Executive Order. Each SBDC application must be consistent with any area-wide small business assistance plan adopted by a State-authorized agency.

DATES: A State single point of contact and other interested State or local entities may submit written comments regarding an SBDC refunding within 30 days from the date of publication of this notice to the SBDC.

ADDRESSES:

Addresses of Relevant SBDC State Directors

Mr. Greg Panichello, State Director, Salt Lake Community College, 9750 South 300 West, Sandy, UT 94070, (801) 957-3493.

Mr. John Lenti, State Director, University of South Carolina, 1710 College Street, Columbia, SC 29208, (803) 777-4907.

Mr. Henry Turner, Executive Director, Howard University, 2600 6th St., NW., Room 125, Washington, DC 20059, (202) 806-1550.

Mr. Herbert Thweatt, Director, American Samoa Community College, P.O. Box 2609, Pago Pago, American Samoa 96799, 011-684-699-9155.

Ms. Kelly Manning, State Director, Office of Business Development, 1625 Broadway, Suite 1710, Denver, CO 80202, (303) 892-3864.

Mr. Jerry Cartwright, State, Director, University of West Florida, 401 East Chase Street, Suite 100, Pensacola, FL 32502, (850) 473-7800.

Mr. Allan Adams, Acting State Director, University of Georgia, 1180 East Broad Street, Athens, GA 30602, (706) 542-6762.

Mr. Sam Males, State Director, University of Nevada/Reno, College of Business Administration, Room 411, Reno, NV 89557-0100, (775) 784-1717.

Ms. Debbie Bishop Trocha, State Director, Economic Development Council, One North Capitol, Suite 900, Indianapolis, IN 46204, (317) 234-2086.

Mr. Darryl Mleynek, State Director, University of Hawaii/Hilo, 308 Kamehameha Avenue, Suite 201, Hilo, HI 96720, (808) 974-7515.

Mr. Greg Sedrick, State Director, Middle Tennessee State University, 615 Memorial Blvd., Third Floor, Murfreesboro, TN 37219, (615) 849-9999.

Ms. Mary Collins, State Director, University of New Hampshire, 108 McConnell Hall, Durham, NH 03824, (603) 862-4879.

Mr. John Massaua, State Director, University of Southern Maine, 96 Falmouth Street, Portland, ME 04103, (207) 780-4420.

Ms. Christine Martin-Goldsmith, State Director, University of North Dakota, 1600 East Century Avenue, Suite 2, Bismarck, ND 58503, (701) 328-5375.

Mr. John Hemmingstad, State Director, University of South Dakota, 414 East Clark Street, Patterson Hall, Vermillion, SD 57069, (605) 677-6256.

Mr. Brett Rogers, State Director, Washington State University, 534 East Trent Avenue, Spokane, WA 99210-1495, (509) 358-7765.

Mr. Casey Jeszenka, SBDC Director, University of Guam, P.O. Box 5061—U.O.G. Station, Mangilao, GU 96923, (671) 735-2590.

Ms. Erica Kauten, State Director, University of Wisconsin, 432 North Lake Street, Room 423, Madison, WI 53706, (608) 263-7794.

Mr. Greg Higgins, State Director, University of Pennsylvania, The Wharton School, 423 Vance Hall, Philadelphia, PA 19104, (215) 898-1219.

Ms. Vi Pham, Region Director, California State University, Fullerton, 800 North State College Blvd., Fullerton, CA 92834, (714) 278-2719.

Mr. Chris Rosander, Region Director, University of California, Merced, 550 East Shaw, Suite 105A, Fresno, CA 93710, (559) 241-6590.

Ms. Adrianna Dawson, Acting State Director, Bryant College, 1150 Douglas Pike, Smithfield, RI 02917, (401) 232-6923.

Ms. Debbie Trujillo, Region Director, Southwestern Community College District, 900 Otey Lakes Road, Chula Vista, CA 91910, (619) 482-6388.

Mr. Dan Ripke, Region Director, California State University, Chico Research Foundation, Chico, CA 95929-0765, (530) 898-4598.

FOR FURTHER INFORMATION CONTACT: Antonio Doss, Associate Administrator for SBDCs, U.S. Small Business Administration, 409 Third Street, SW., Sixth Floor, Washington, DC 20416.

SUPPLEMENTARY INFORMATION:

Description of the SBDC Program

A partnership exists between SBA and an SBDC. SBDCs offer training, counseling and other business development assistance to small businesses. Each SBDC provides services under a negotiated Cooperative Agreement with the SBA. SBDCs operate on the basis of a state plan to provide assistance within a state or geographic area. The initial plan must have the written approval of the Governor. Non-Federal funds must match Federal funds. An SBDC must operate according to law, the Cooperative Agreement, SBA's regulations, the annual Program Announcement, and program guidance.

Program Objectives

The SBDC program uses Federal funds to leverage the resources of states, academic institutions and the private sector to:

(a) Strengthen the small business community;

(b) Increase economic growth;

(c) Assist more small businesses; and

(d) Broaden the delivery system to more small businesses.

SBDC Program Organization

The lead SBDC operates a statewide or regional network of SBDC service centers. An SBDC must have a full-time Director. SBDCs must use at least 80 percent of the Federal funds to provide services to small businesses. SBDCs use volunteers and other low cost resources as much as possible.

SBDC Services

An SBDC must have a full range of business development and technical assistance services in its area of operations, depending upon local needs, SBA priorities and SBDC program objectives. Services include training and counseling to existing and prospective small business owners in management, marketing, finance, operations, planning, taxes, and any other general or technical area of assistance that supports small business growth.

The SBA district office and the SBDC must agree upon the specific mix of services. They should give particular attention to SBA's priority and special emphasis groups, including veterans, women, exporters, the disabled, and minorities.

SBDC Program Requirements

An SBDC must meet programmatic and financial requirements imposed by statute, regulations or its Cooperative Agreement. The SBDC must:

(a) Locate service centers so that they are as accessible as possible to small businesses;

(b) Open all service centers at least 40 hours per week, or during the normal business hours of its state or academic Host Organization, throughout the year;

(c) Develop working relationships with financial institutions, the investment community, professional associations, private consultants and small business groups; and

(d) Maintain lists of private consultants at each service center.

Dated: August 10, 2005.
Antonio Doss,
Associate Administrator for Small Business Development Centers.

[FR Doc. 05-16233 Filed 8-16-05; 8:45 am]

BILLING CODE 8025-01-P